DEPARTMENT OF COMMERCE

Economic Development Administration

[Docket No. 991215337-9337-01]

RIN 0610-ZA13

National Technical Assistance, Training, Research, and Evaluation—Request for Grant Proposals

AGENCY: Economic Development Administration (EDA), Department of Commerce (DoC).

ACTION: Request for Grant Proposals (RFP) Upon Availability of Funds.

SUMMARY: A total of $361,879,000 is available to EDA for all its programs in FY 2000, of which approximately $1,601,000 will be available for National Technical Assistance, Training, Research, and Evaluation. EDA is soliciting proposals for the specific projects described herein: (1) Evaluation of EDA's Planning Program; (2) Evaluation of EDA's Local Technical Assistance Program; (3) Economic Assessment of Sustainable Development Projects; (4) Improving Technology-Led Economic Development Strategies; and (5) Reviews of Economic Development Literature and Practice. These projects will be funded if acceptable proposals are received. Remaining funding, if any, may be used to fund additional projects. EDA issues this Notice to describe the conditions under which eligible applications for these National Technical Assistance, Training, Research, and Evaluation projects under 13 CFR Part 307, Subpart C (64 FR 5347, 5428-5429; 64 FR 69878-879) will be accepted and selected for funding.

DATES: Prospective applicants are advised that EDA will conduct a pre-proposal conference on February 16, 2000, at 10:00 a.m. EDT in the Department of Commerce, Herbert C. Hoover Building, 14th and Constitution Avenue, N.W., Washington, D.C. 20230, Room 1414, at which time questions on these projects can be answered. Potential applicants are encouraged to provide written questions (See ADDRESS section below) by February 14, 2000. Prospective applicants unable to attend this pre-proposal conference may participate by teleconference. Teleconference information may be obtained by calling (202) 482-4085 between 8:30-5:00 EDT on February 15, 2000.

Proposals for funding under this program will be accepted through March 9, 2000, at the address provided below. Proposals received after 5:00 p.m. EDT, on March 9, 2000, will not be considered for funding.

By March 30, 2000, EDA will advise successful proponents to submit full applications. OMB has assigned application forms Control Number 0610-0094.

Completed applications must be submitted to EDA by April 19, 2000, at the address below. EDA anticipates that these projects will be funded about June 15, 2000, but will make the awards no later than September 30, 2000.

ADDRESSES: Send proposals to John J. McNamee, Director, Research and National Technical Assistance Division, Economic Development Administration, Room 7019, U.S. Department of Commerce, Washington, D.C. 20230.

FOR FURTHER INFORMATION CONTACT: John J. McNamee (202) 482-4085.

SUPPLEMENTARY INFORMATION:

I. Areas of Special Emphasis

• Evaluation of EDA's Planning Program

EDA invites proposals to evaluate the impact of its Economic Development District (EDD) Planning Program.

Background: Under its Planning Program, EDA provides ongoing funding, on an annual basis, to approximately 320 Economic Development Districts (EDD) to help in designing and implementing strategies and to build and maintain local institutional capacity for the economic development of the communities they serve. EDA planning grants fund a number of activities. These include developing and maintaining the Comprehensive Economic Development Strategy (CEDS) process, developing projects, coordinating local and regional economic development efforts in implementing the CEDS, identifying/attracting sources of funding and investment, and providing technical assistance to its member jurisdictions. The EDA grants provide communities with the critical resources to assist in organizing and carrying out long-and short-term strategies tailored to the their particular economic problems and opportunities. However, the fundamental impact of the program should be the sustainable economic development of the areas served.

EDA's Planning Program and the network of local partnerships it has supported have been critical to the effectiveness of economic development efforts at the local and regional level for more than 30 years. In 1998, EDA commissioned an independent evaluation of its regional planning process in order to increase the benefits of the process and enhance economic development capacity at the local level. That evaluation was completed in 1999. The current evaluation will complement this earlier evaluation by measuring the impact of EDA's assistance under the EDD Planning Program.

Scope of Work: The successful applicant will: (1) evaluate the impact of EDA funding of EDDs under its Planning Program, including (a) how well the program helps communities build long-term economic development capacity, (b) whether the strategies developed are realistic and responsive to the specific economic development needs of the areas served, (c) how effective the technical assistance provided by the EDD organization is to the member jurisdictions, and (d) how effectively EDDs implement the CEDS; (2) select a representative sample of EDD grantees, including a rural, urban and regional balance; (3) make site visits as necessary; (4) convene a panel of stakeholders; (5) as appropriate, make recommendations for improving the program; (6) prepare a final report; and (7) conduct briefings and/or training workshops as set forth in IV.E. below.

Cost: The total EDA share of the cost of this project may not exceed $249,000.

Timing: The project should be completed and the final report submitted within one year of project approval.

• Evaluation of EDA's Local Technical Assistance Program

Background: EDA's Local Technical Assistance Program provides funding to help communities solve specific economic development problems, respond to development opportunities, and build and expand local organizational capacity in distressed areas. Often, Local Technical Assistance projects consist of feasibility studies, support for other economic development providers, or similar projects necessary to prepare a community for further EDA support. In recent years, funding for the program has been approximately $1.5 million per year, with the average grant size approximately $25,000. The program was last evaluated in 1989.

Scope of Work: The successful applicant will: (1) examine selected projects funded in FY's 1996-1997, provided they have been completed no later than September 30, 1999, to identify common and variable features of representative projects; (2) where appropriate, make site visits to obtain more detailed project information; (3) evaluate the effectiveness of the Local Technical Assistance Program; (4) make recommendations as needed for improving the program; and (5) conduct briefings and/or training workshops as set forth in IV.E. below. In evaluating program effectiveness, relevant questions include (but are not restricted to):

• Has the program influenced the design, implementation, or timing of local economic development projects?

• Has the program helped distressed communities undertake or eliminate specific economic development projects from their overall strategy?

• Has the program helped distressed communities build and expand local organizational economic development capacity?

• Has the program supported innovative economic development approaches and/or given local officials needed technical expertise?

• To what extent have the projects and/or the program targeted distressed areas?

• Were projects completed in a timely and cost-effective fashion?

• Were there common features that contributed to project success or failure?

• Could specific outcomes be tracked back to the completed Local Technical Assistance projects?

Cost: The total EDA share of the cost of this project may not exceed $149,000.

Timing: The project should be completed and the final report submitted within one year of project approval.

• Economic Assessment of Sustainable Development Projects

EDA invites proposals to assess the economic impacts of sustainable development projects in distressed communities.

Background: In recent years, EDA has funded many local projects to support sustainable development, including brownfields redevelopment, eco-industrial parks, aquaculture, and projects to support diversification of natural resource based economies (e.g., timber, fisheries, etc.). The agency also has funded several national studies of sustainable economic development strategies and collections of case studies describing strategies available to practitioners at the state and local level. This cumulative experience suggests that a significant barrier to sustainable economic development is the inability of prospective projects to demonstrate economic viability to potential investors and funding agencies.

This project is designed to assist individuals and organization that are undertaking sustainable development activities to collect data and develop methods for assessing the economic benefits and costs of their projects. EDA is primarily interested in assessments of direct economic impacts. Simulations that assess secondary, indirect, and induced impacts without generating original research of direct benefits and costs will not be considered. Utility of the research to economic development practitioners is essential. EDA seeks economic impact assessments that are replicable in other contexts, in order to help future sustainable development efforts. Impacts considered may be either on the supply side or the demand side of the market. However, the economic impacts described must be quantifiable and derived from real economic development projects. It is not necessary to assess all economic impacts for a given sustainable development activity, but those impacts that are considered should be researched as completely as possible. Given the time frame of this study, EDA anticipates that most proposals will relate to projects already underway. EDA is especially interested in studies that assess impacts that have not previously been described well (e.g., product quality impacts, equity impacts, etc.), studies that improve existing assessment methods, and/or studies that utilize new assessment methods.

Scope of Work: The successful applicant will: (1) quantitative describe the anticipated economic benefits and costs of one or more sustainable development project(s); (2) review prior economic assessments and literature relevant to assessing those impacts; (3) assess the direct economic benefits and costs of the project(s) as completely as possible, using methods deemed sound by mainstream professional economists; (4) place those economic benefits and costs in the context of the community the project is designed to serve; (5) prepare a final report that summarizes the research findings; and (6) conduct briefings and/or training workshops as set forth in IV.E. below.

Cost: EDA may provide funding up to $145,000 for all projects funded under this RFP. EDA anticipates making multiple awards from this total funding available.

Timing: The projects should be completed and the final reports submitted within nine months of project approval.

Improving Technology-Led Economic Development Strategies

EDA seeks proposals to improve the technology-led strategies for economic development in distressed communities.

Background: The current era of rapid technological change offers both promise and challenges to America's distressed communities. On the one hand, new technologies can help these communities enter and succeed in the economic mainstream by allowing them to engage in activities such as e-commerce, telemedicine, distance learning, and modernization of manufacturing. On the other hand, the speed of technological advance and the scale of investment and training needed threatens to leave behind those communities that lack a diverse economic base and solid infrastructure.

EDA assists distressed communities to design and implement their own technology-led economic development strategies. The agency also funds research to support its investment strategy by identifying areas where further investment is most needed, methods to improve the effectiveness of the agency's investments, and ways to leverage available funding, EDA research also assists local economic development practitioners by disseminating lessons learned by others in the field. To give some examples, EDA is presently funding an assessment of the technology infrastructure needs of America's distressed communities, and recently completed a similar needs assessment in Native communities. EDA is also funding the preparation of a handbook to help local practitioners prepare technology strategic plans. Other recent EDA research projects in this area include a collection of best practices in technology transfer and commercialization (underway); a review of state science and technology strategic plans (1997); and a comprehensive guide to business incubators (1996).

This project is designed to support EDA investments in technology-led economic development in distressed areas. Examples of acceptable projects include (but are not limited to):

• Assessments of past and current EDA technology investments;

• Research that identifies, describes, and evaluates specific strategies for technology-led economic development;

• Research that identifies national investment needs to support specific types of technology-led economic development; and

• Exploration of methods to enhance the effectiveness of existing technology-led strategies, including ways to expand available funding in a responsible fashion.

Projects must have significance to practitioners nationally. Local feasibility studies, needs assessments, and project implementation will generally not be funded unless the projects have compelling demonstration value and include a careful assessment of the strategy's replicability elsewhere. Likewise, purely theoretical research will not be funded without a convincing demonstration of its utility to practitioners.

Scope of Work: The successful applicant will: (1) describe specific strategies, needs, and/or methods to promote economically-important technological advance in distressed areas; (2) critically review relevant literature from academics, practitioners, and other sources and describe the contribution of the project to that field of knowledge; (3) evaluate the significance of the strategy to technology-led economic development, using methodologies generally accepted by scholars and experts in the field; (4) prepare a final written report of findings designed to improve economic development efforts by EDA and state and local practitioners; and (5) conduct briefings and/or training workshops as set forth in IV.E. below.

Cost: EDA may provide funding up to $145,000 for all projects funded under this RFP. EDA may make multiple awards from this total funding available.

Timing: The project should be completed and the final report submitted within one year of project approval.

• Reviews of Economic Development Literature and Practice

EDA invites proposals to review the literature and practical experience regarding issues of critical importance to economic development practitioners nationally.

Background: One of EDA's main functions is to disseminate high quality information about economic development policies, issues, strategies, and techniques to practitioners. EDA fulfills this function by a number of means, including newsletters, conferences, use of the Internet, and targeted research. This project would help present important and emerging theoretical issues to practitioners and policy makers.

EDA is especially interested in reviews supporting EDA's core programs and initiatives. Examples include: technology-led economic development; productivity enhancement through infrastructure investment; e-commerce; strategies and policies for dealing with sprawl; strategies that promote regional growth; counter-cyclical spending strategies; microenterprise development; economic development in Native communities; and support for regions harmed by international trade. EDA, however, welcomes other topics of importance to domestic economic development. Completed reviews must be analytical, and should identify important policy implications. They must also be prepared for practitioners rather than an academic audience.

EDA expects researchers to demonstrate familiarity with the proposed topic and ability to conduct a timely, thorough, and objective review. EDA welcomes strong graduate student participation in these projects, contingent on the student's ability to demonstrate expertise in the field of study. Where a student is to be a primary participant in the research, a faculty letter in support of the student's participation may be included in the proposal. This letter, not to exceed two pages, shall not be subject to the other page limits specified in Part III. B. EDA anticipates making multiple awards, but will not make multiple awards to any individual researcher. Authors are encouraged to submit the final review paper for publication.

Scope of Work: Successful applicants will:

(1) Prepare a review paper that: a) describes and analyzes critically key debates in the literature, analytical techniques of broad importance to practitioners; and/or the range of experience with specific economic development strategies; b) identifies important policy implications of the research; c) represents original research not previously submitted for publication elsewhere; d) is of length and quality suitable for publication in a peer reviewed journal; and e) is written in a style appropriate for practitioners.

(2) Conduct up to three presentations as described in IV.E below.

Cost: EDA may provide funding up to $72,500 for all reviews funded under this RFP. The total EDA share of the cost for any single review may not exceed $20,000. EDA anticipates that most proposals will be in the range of $10,000 to $15,000.

Timing: EDA anticipates that most reviews will take 6 months or less, but recognizes that this will vary with the nature of the research. Presentations may take place up to one year after the paper is submitted. All projects should be completed within nine months of project approval.

II. How To Apply

A. Eligible Applicants

See EDA's interim final rule at 13 CFR § 300.2 (64 F.R. 5347). Eligible applicants are as follows: institutions of higher education, consortiums of institutions of higher education; public or private nonprofit organizations or associations acting in cooperation with officials of a political subdivision of a state, for-profit organizations, and private individuals; areas meeting requirements under 13 CFR 301.2; Economic Development Districts; Indian tribes; consortiums of Indian Tribes; states, cities or other political subdivisions of a state; consortiums of political subdivisions of states.

B. Proposal Submission Procedures

Proposals submitted should include: (1) a description of how the researcher(s) intend(s) to carry out the scope of work (not to exceed 10 pages in length); (2) a proposed budget and accompanying explanation; (3) resumes/qualifications of key staff (not to exceed two pages per individual or organization), and (4) a proposed time line for completion of the project. EDA will not accept proposals submitted by FAX or email. Proposals received after 5:00 p.m. EST on March 9, 2000, at the address provided above, will not be considered.

III. Selection Process and Evaluation Criteria

All proposals must meet EDA's statutory and regulatory requirements. Proposals will receive initial review by EDA to assure that they meet all requirements of this announcement and 13 CFR Chapter III (64 FR 5347), including eligibility and relevance to the specified project as described herein. EDA's general selection process and criteria are set out in 13 CFR §§ 304.1 and 304.2 (64 FR 5347-5348; 64 FR 69874-69875). Proposals that meet these requirements will then be evaluated by a review panel composed of at least three members. EDA will carry out its selection of proposals to be funded under the specific projects described in this RFP using the following criteria:

• The quality of a proposal's response to the scope of work proposed; and

• The ability of the prospective applicant to successfully carry out the proposed activities.

If a proposal is selected, EDA will provide the proponent with an Application for Federal Assistance (OMB Control Number 0610-0094). Notwithstanding any other provision of law, no person is required to respond to nor shall a person be subject to a penalty for failure to comply with a collection of information subject to the requirements of the Paperwork Reduction Act unless that collection of information displays a currently valid OMB Control Number.

IV. Additional Information and Requirements

A. Authority

The Public Works and Economic Development Act of 1965, as amended (Pub. L. 89-136, 42 U.S.C. 3121 et seq.), including the comprehensive amendments by the Economic Development Administration Reform Act of 1998 (Pub.L. 105-393) (PWEDA) authorizes EDA to make grants for training, research, and technical assistance, including grants for program evaluation and project impact analyses, that would be useful in alleviating or preventing conditions of excessive unemployment or underemployment (42 U.S.C. 3147, § 207). This RFP is dependent upon the availability of funds in FY 2000 for this program. Public Law 106-113 makes funds available for this program.

B. Catalog of Federal Domestic Assistance

11.303 Economic Development Technical Assistance.

11.312 Research and Evaluation

C. Program Description

For a description of this program see PWEDA and 13 CFR Chapter III, Part 307 (64 FR 5347).

EDA assistance is focused on areas experiencing significant economic distress, defined principally as per capita income of 80 percent or less of the national average, or an unemployment rate that is, for the most recent 24-month period for which data are available, at least one percent greater than the national average.

D. Costs

Ordinarily, the applicant is expected to provide a 50 percent non-federal share of project costs. However, the Assistant Secretary may waive the required 50 percent matching share of the total project costs, provided the applicant can demonstrate: (1) the project is not feasible without, and the project merits such a waiver, or (2) the project is addressing major causes of distress in the area serviced and requires the unique characteristics of the applicant, which will not participate if it must provide all or part of a 50 percent non-federal share, or (3) the project is for the benefit of local, state, regional, or national economic development efforts, and will be of no or only incidental benefit to the recipient (See 13 CFR § 307.9; 64 FR 5429).

E. Briefings and Reports

Unless otherwise noted, each award includes a requirement that the applicant conduct a total of up to seven briefings and/or training workshops for individuals and organizations interested in the results of this project. Potential applicants should be aware that the completion dates set forth above are for completion of the project and submission of the final written report. Briefings/workshops will take place no later than one year after submission of the final report. Locations and dates of the briefings/workshops are at EDA's discretion. Usually, these consist of at least one briefing in Washington, DC, with the other briefings/workshops held in conjunction with one or more of EDA's regional conferences.

Unless otherwise noted, each award includes a requirement that the applicant submit an electronic version and 200 hard copies of the final report in formats acceptable to EDA.

F. Website

See 64 FR 9221-9226, Part II for additional information and requirements (available on the Internet at http://www.doc.gov/eda/html/notice.htm, under the heading “Economic Development Assistance Programs-Availability of Funds”).

Dated: January 18, 2000.
Chester J. Straub, Jr.,
Acting Assistant Secretary for Economic Development.

[FR Doc. 00-1628 Filed 1-21-00; 8:45 am]

BILLING CODE 3510-24-P